DEPARTMENT OF STATE

[Public Notice 8311]

Scoping Period Extended for the Proposed Enbridge Energy Partners, Line 67 Capacity Expansion Project

April 30, 2013.

AGENCY: Department of State.

ACTION: Notice of decision to extend the scoping period for the proposed Enbridge Energy Partners, Line 67 Capacity Expansion Project to May 13, 2013.

SUMMARY: The Department has decided to extend by two weeks the scoping period for the Supplemental Environmental Impact Statement for the proposed Enbridge Energy, Limited Partnership (Enbridge), Line 67 Capacity Expansion Project. Scoping will now end at midnight EDT on May 13th, 2013.

The Department received a Presidential Permit application from Enbridge to amend the August 3, 2009 Presidential Permit issued to Enbridge by the Department authorizing the construction, operation, and maintenance of the Line 67 Pipeline across the U.S.-Canada border. Enbridge requests an amendment to its permit in order to operate Line 67 up to its full design capacity of 880,000 barrels per day (bpd) of crude oil with an average annual capacity of 800,000 bpd of heavy crude.

DATES: The Department invites interested agencies, organizations, and members of the public to submit comments or suggestions to assist in identifying significant environmental issues, measures that might be adopted to reduce environmental impacts, and in determining the appropriate scope of the SEIS. The public scoping period began with the publication of a Notice of Intent to Prepare a Supplemental Environmental Impact Statement in the Federal Register on March 14, 2013 and will continue until May 13, 2013. Written, electronic, and oral comments will be given equal weight and the Department will consider all comments received or postmarked by, May 13, 2013 in defining the scope of the SEIS. Comments received or postmarked after that date may be considered to the extent practicable.

Public scoping periods are designed to provide opportunities to offer comments on the environmental review for the proposed project. Interested individuals and groups are encouraged to present comments on the environmental issues they believe should be addressed in the SEIS consistent with NEPA and its implementing regulations.

During this public scoping period, the Department also plans to use the scoping process to help identify consulting parties and historic preservation issues for consideration consistent with Section 106 of the National Historic Preservation Act and its implementing regulations (36 CFR part 800).

ADDRESSES: Written comments or suggestions on the scope of the SEIS should be addressed to: Genevieve Walker, OES/EQT Room 2726, U.S. Department of State, 2201 C Street NW., Washington, DC 20520. Comments may be submitted electronically to EnbridgeLine67permit@state.gov. Public comments may be posted on the Web site identified below.

FOR FURTHER INFORMATION CONTACT: For information on the proposed project or to receive a copy of the draft SEIS when it is issued, contact Genevieve Walker at the address listed in the ADDRESSES section of this notice by electronic or regular mail as listed above, or by telephone (202) 647-9798 or by fax at (202) 647-5947.

Project details and environmental information on the Enbridge Energy, Limited Partnership application for a Presidential Permit, as well as the Presidential Permit process, are downloadable from the following Web site: http://www.state.gov/e/enr/applicant/applicants/index.htm

Dated: April 30, 2013.
George N. Sibley,
Director, Office of Environmental Quality and Transboundary Issues, Department of State.

[FR Doc. 2013-10563 Filed 5-2-13; 8:45 am]

BILLING CODE 4710-09-P